NATIONAL SCIENCE FOUNDATION

Notice of Permits Issued Under the Antarctic Conservation Act of 1978

AGENCY: National Science Foundation.

ACTION: Notice of permits issued under the Antarctic Conservation of 1978, Public Law 95-541.

SUMMARY: The National Science Foundation (NSF) is required to publish notice of permits issued under the Antarctic Conservation Act of 1978. This is the required notice.

FOR FURTHER INFORMATION CONTACT: Nadene G. Kennedy, Permit Office, Office of Polar Programs, Rm. 755, National Science Foundation, 4201 Wilson Boulevard, Arlington, VA 22230.

SUPPLEMENTARY INFORMATION: On August 9, 2004 and September 7, 2004, the National Science Foundation published notices in the Federal Register of a permit application received, and a permit modification request. The permit and modification were issued on October 4, 2004 and October 14, 2004 respectively to:

Yu-Ping Chin, Permit No. 2005-012

Wayne Z. Trivelpiece, Permit No. 2001-011 Mod 2

Nadene G. Kennedy,
Permit Officer.

[FR Doc. 04-23464 Filed 10-19-04; 8:45 am]

BILLING CODE 7555-1-M